DEPARTMENT OF COMMERCE

Economic Development Administration

Notice of Petitions by Firms for Determination of Eligibility To Apply for Trade Adjustment Assistance

AGENCY: Economic Development Administration, Department of Commerce

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment 10/30/2008 Through 12/11/2008
Firm | Address | Date accepted for filing | Products
Iceberg Enterprises, LLC | 1300 W. Higgins Road, Park Ridge, IL 60068 | 10/30/2008 | Plastic tables, chairs, cabinets and related office products.
Thorock Metals, Inc. | 435 Weber Avenue, Compton, CA | 12/9/2008 | Alloyed aluminum ingots (RSI, or Recycled Secondary Ingots).
TechniQuip Corp. | 5653 Stoneridge Drive, Pleasanton, CA 94588-90223 | 12/11/2008 | Fiber optic illumination devices and fluorescent ring lights.
Misty Mountain Threadworks, Inc. | 718 Burma Road, Banner Elk, NC 28604 | 12/11/2008 | Recreational mountain climbing gear, including waist/body harnesses, boulder pads, slings, chalk bags and tool bags.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: December 12, 2008.
William P. Kittredge,
Program Officer for TAA.

[FR Doc. E8-30039 Filed 12-17-08; 8:45 am]

BILLING CODE 3510-24-P